DEPARTMENT OF ENERGY

Federal Energy Regulatory Commission

[Docket No. CP04-97-000]

Transcontinental Gas Pipe Line Corporation; Notice of Application for Abandonment of Service

April 8, 2004.

Take notice that on March 30, 2004, Transcontinental Gas Pipe Line Corporation (Transco), filed in Docket No. CP04-97-000 an application, in abbreviated form, pursuant to section 7(b) of the Natural Gas Act, as amended, and part 157 of the rules and regulations of the Federal Energy Regulatory Commission, for an order permitting and approving abandonment of certain firm sales service provided to Town of Liberty, Mississippi (Liberty) under Transco's Rate Schedule FS. In such application, Transco states that it entered into a firm sales agreement with Liberty on August 1, 1991, under which Transco sells gas to Liberty under Rate Schedule FS, with Buyer's Daily Sales Entitlement amount listed on Exhibit “A” to the agreement (FS Agreement).

Transco states that the Primary Term of the FS Agreement ended on March 31, 2001. By letter dated March 25, 2003, Transco provided Liberty with a two-year notice to terminate the subject FS Agreement as of April 1, 2005.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Take further notice that, pursuant to the authority contained in and subject to the jurisdiction conferred upon the Commission by sections 7 and 15 of the Natural Gas Act and the Commission's rules of practice and procedure, a hearing will be held without further notice before the Commission on this application if no petition is filed within the time required herein, and the Commission on its own review of the matter finds that a grant of the abandonment is required by the public convenience and necessity. If a protest or petition for leave to intervene is timely filed, or if the Commission on its own motion believes that a formal hearing is required, further notice of such hearing will be duly given. Under this procedure, unless otherwise advised, it will be unnecessary for Transco to appear or to be represented at the hearing.

Comment Date: April 23, 2004.

Linda Mitry,
Acting Secretary.

[FR Doc. E4-849 Filed 4-14-04; 8:45 am]

BILLING CODE 6717-01-P